DEPARTMENT OF DEFENSE

Department of the Army

Notice of Intent To Grant an Exclusive License of a U.S. Government-Owned Patent; Correction

AGENCY: U.S. Army Medical Research and Materiel Command, DOD.

ACTION: Notice; correction.

SUMMARY: The U.S. Army Medical Research and Materiel Command published a document in the Federal Register of October 18, 2001, concerning intent to grant an exclusive license of a U.S. Government-owned patent. Inadvertently, the incorrect information was provided under the summary.

FOR FURTHER INFORMATION CONTACT: For patent issues, Ms. Elizabeth Arwine, Patent Attorney, (301) 619-7808. For licensing issues, Dr. Paul Mele, Office of Research & Technology Assessment, (301) 619-6664. Both at telefax (301) 619-5034.

Correction

In the Federal Register of Oct 18, 2001, in FR Doc. 01-26191, on page 52898, in the second column, correct the SUMMARY caption to read:

SUMMARY: In accordance with 35 U.S.C. 209(e) and 37 CFR 404.7(a)(I)(i), announcement is made of the intent to grant an exclusive, royalty-bearing, revocable license to U.S. patent number 5,607,979 issued March 4, 1997 entitled “Topical Skin Protectants” to DFB Pharmaceuticals, Inc with its principal place of business at 3909 Hulen Street, Fort Worth, Texas 76107.

Luz D. Ortiz,
Army Federal Register Liaison Officer.

[FR Doc. 01-27627 Filed 11-1-01; 8:45 am]

BILLING CODE 3710-08-M